SECURITIES AND EXCHANGE COMMISSION

[Investment Company Act Release No. IC-35173; File No. 812-15476-01]

Sound Point Meridian Capital, Inc., et al.

April 19, 2024.

AGENCY: Securities and Exchange Commission (“Commission” or “SEC”).

ACTION: Notice.

Notice of application for an order under section 17(d) of the Investment Company Act of 1940 (the “Act”) and rule 17d-1 under the Act to permit certain joint transactions otherwise prohibited by section 17(d) of the Act and rule 17d-1 under the Act.

Summary of Application: Applicants request an order to permit certain closed-end management investment companies to co-invest in portfolio companies with each other and with certain affiliated investment entities.

Applicants: Sound Point Meridian Capital, Inc., Sound Point Meridian Management Company, LLC, Sound Point Capital Management, LP, Sound Point Harbor Master Fund LP, Sound Point Harbor Fund LP, Sound Point Harbor Offshore Fund LP, Sound Point CLO Master Fund LP, Sound Point CLO Fund LP, and Sound Point CLO Fund, Ltd.

Filing Dates: The application was filed on June 13, 2023, and amended on October 3, 2023, January 12, 2024, March 19, 2024, and April 15, 2024.

Hearing or Notification of Hearing: An order granting the requested relief will be issued unless the Commission orders a hearing. Interested persons may request a hearing on any application by emailing the SEC's Secretary at Secretarys-Office@sec.gov and serving the Applicants with a copy of the request by email, if an email address is listed for the relevant Applicant below, or personally or by mail, if a physical address is listed for the relevant Applicant below. Hearing requests should be received by the Commission by 5:30 p.m. on May 14, 2024 and should be accompanied by proof of service on the Applicants, in the form of an affidavit or, for lawyers, a certificate of service. Pursuant to rule 0-5 under the Act, hearing requests should state the nature of the writer's interest, any facts bearing upon the desirability of a hearing on the matter, the reason for the request, and the issues contested. Persons who wish to be notified of a hearing may request notification by emailing the Commission's Secretary at Secretarys-Office@sec.gov.

ADDRESSES: The Commission: Secretarys-Office@sec.gov. Applicants: Wendy Ruberti, General Counsel, Sound Point Capital Management, LP, 375 Park Avenue, 33rd Floor, New York, NY 10152 with copies to Harry S. Pangas and Philip T. Hinkle, Dechert LLP, 1900 K Street NW, Washington, DC 20006-1110.

FOR FURTHER INFORMATION CONTACT: Laura J. Riegel, Senior Counsel, or Lisa Reid Ragen, Branch Chief, at (202) 551-6825 (Division of Investment Management, Chief Counsel's Office).

SUPPLEMENTARY INFORMATION: For Applicants' representations, legal analysis, and conditions, please refer to Applicants' fourth amended and restated application, dated April 15, 2024, which may be obtained via the Commission's website by searching for the file number at the top of this document, or for an Applicant using the Company name search field, on the SEC's EDGAR system.

The SEC's EDGAR system may be searched at http://www.sec.gov/edgar/searchedgar/legacy/companysearch.html. You may also call the SEC's Public Reference Room at (202) 551-8090.

For the Commission, by the Division of Investment Management, under delegated authority.
Sherry R. Haywood,
Assistant Secretary.

[FR Doc. 2024-08796 Filed 4-24-24; 8:45 am]

BILLING CODE 8011-01-P